DEPARTMENT OF COMMERCE

National Oceanic and Atmospheric Administration

[RTID 0648-XF209]

Council Coordination Committee Meeting; Public Meeting

AGENCY: National Marine Fisheries Service (NMFS), National Oceanic and Atmospheric Administration (NOAA), Commerce.

ACTION: Notice of public meeting.

SUMMARY: The Council Coordination Committee (CCC), consisting of the eight Regional Fishery Management Council (RFMC) chairs, vice chairs, and executive directors, will hold a public virtual meeting from October 15-16, 2025. The intent of this meeting is to discuss issues of relevance to the Councils and NMFS, including issues related to the implementation of the Magnuson-Stevens Fishery Conservation Act (MSA) and Management Reauthorization Act (MSRA), other topics of concern to the RFMCs, and decisions and follow-up activities.

DATES: This meeting will be held from Wednesday, October 15, 2025, to Thursday, October 16, 2025. The meeting will begin at 1 p.m. EDT on Wednesday, October 15, 2025, and recess at 5:30 p.m. or when business is complete. The meeting will reconvene at 1 p.m. EDT on Thursday, October 16, 2025, and adjourn at 5:30 p.m. or when business is complete.

ADDRESSES: This meeting will be held virtually. Webinar registration URL information: https://nefmc-org.zoom.us/webinar/register/WN_KT2HSTF4SHmyPO1F5uEOow.

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.; email: cokeefe@nefmc.org.

SUPPLEMENTARY INFORMATION: The MSA and 2007 MSRA established the CCC by amending section 302 (16 U.S.C. 1852) of the MSA. The committee consists of the chairs, vice chairs, and executive directors of each of the eight RFMC authorized by the MSA, or their proxies, other Council members or staff. All sessions are open to the public and time will be set aside for public comments at the end of each day and after specific sessions at the discretion of the meeting Chair. The meeting Chair will announce public comment times and instructions to provide comments at the start of each meeting day. There will be opportunities for public comments to be provided in-person and remotely via webinar. Updates to this meeting, briefing materials, public comment instructions, and additional information will be posted when available at https://www.fisherycouncils.org/ccc-meetings/october-2025-ccc-meeting.

Agenda

Wednesday, October 15, 2025

• Welcome and introductions; adoption of agenda

• Regional council updates

• 2026 NOAA priorities update

• 2026 status and future outlook; council funding information

• Update on NOAA science programs including survey capability, modernization, planning, budget, and timelines

• Update to current status of the National Environmental Policy Act guidance and Council input

• Public comment

Adjourn for the day.

Thursday, October 16, 2025

• Update on Executive Order 14276

• Legislative updates

• Discussion on Priorities and Future Planning including updates on regional applications of Risk-Value Matrix and decisions on next steps

• Update on international fisheries topics

• Council Member Ongoing Development Workshop report

• Communications plan for 50th anniversary of the MSA and the RFMC

• Marine Resource Education Program update; recent activities and success metrics

• 2026 CCC meeting planning

• 2027 CCC meeting planning

• Public comment

Adjourn

The timing and order in which agenda items are addressed may change as required to effectively address the issues. The CCC will meet as late as necessary to complete scheduled business.

Although non-emergency issues not contained in the meeting agenda may be discussed, those issues may not be the subject of formal action during these meetings. Action will be restricted to those issues specifically listed in this document and any issues arising after publication of this document that require emergency action under section 305 (c) of the MSA, provided the public has been notified of the intent to take final action to address the emergency.

The public also should be aware that the meeting will be recorded and a transcript prepared. Consistent with 16 U.S.C. 1852, a copy of the recording is available upon request.

Special Accommodations

This meeting is virtual, requests for sign language interpretation or other auxiliary aids should be directed to Cate O'Keefe (see ADDRESSES) at least 5 days prior to the meeting date.

Authority: 16 U.S.C. 1801 et seq.

Dated: September 26, 2025.
Rey Israel Marquez,
Acting Deputy Director, Office of Sustainable Fisheries, National Marine Fisheries Service.

[FR Doc. 2025-19146 Filed 9-30-25; 8:45 am]

BILLING CODE 3510-22-P